FEDERAL RETIREMENT THRIFT INVESTMENT BOARD

Member Meeting

77 K Street NE, 10th Floor, Washington, DC 20002

June 13, 2019, 9:00 a.m.

Closed Session

Information covered under 5 U.S.C. 552b(c)(9)(B).

Contact Person for More Information: Kimberly Weaver, Director, Office of External Affairs, (202) 942-1640.

Dated: June 7, 2019.
Megan Grumbine,
General Counsel, Federal Retirement Thrift Investment Board.

[FR Doc. 2019-12378 Filed 6-11-19; 8:45 am]

BILLING CODE 6760-01-P